DEPARTMENT OF TRANSPORTATION

Federal Aviation Administration

14 CFR Part 39

[Docket No. FAA-2020-0107; Product Identifier 2019-NM-205-AD]

RIN 2120-AA64

Airworthiness Directives; The Boeing Company Airplanes

AGENCY: Federal Aviation Administration (FAA), DOT.

ACTION: Notice of proposed rulemaking (NPRM).

SUMMARY: The FAA proposes to supersede Airworthiness Directive (AD) 2019-03-06, which applies to certain The Boeing Company Model 737-300, -400, and -500 series airplanes. AD 2019-03-06 requires installing lanyard assemblies to the passenger service units (PSUs) and, for certain airplanes, on the life vest panels. Since AD 2019-03-06 was issued, the FAA has determined that additional actions are necessary for five airplanes. This proposed AD would retain the requirements of AD 2019-03-06 and require installation of lanyard assemblies to the life vest panels on those five airplanes. The FAA is proposing this AD to address the unsafe condition on these products.

DATES: The FAA must receive comments on this proposed AD by April 23, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at https://www.regulations.gov by searching for and locating Docket No. FAA-2020-0107.

Examining the AD Docket

You may examine the AD docket on the internet at https://www.regulations.gov by searching for and locating Docket No. FAA-2020-0107; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Scott Craig, Aerospace Engineer, Cabin Safety and Environmental Systems Section, FAA, Seattle ACO Branch, 2200 South 216th St., Des Moines, WA 98198; phone and fax: 206-231-3566; email: Michael.S.Craig@faa.gov.

SUPPLEMENTARY INFORMATION:

Comments Invited

The FAA invites you to send any written relevant data, views, or arguments about this proposal. Send your comments to an address listed under the ADDRESSES section. Include “Docket No. FAA-2020-0107; Product Identifier 2019-NM-205-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this proposed AD.

Discussion

The FAA issued AD 2019-03-06, Amendment 39-19558 (84 FR 5587, February 22, 2019) (“AD 2019-03-06”), for certain Boeing Model 737-300, -400, and -500 series airplanes. AD 2019-03-06 requires installing lanyard assemblies to the PSUs and, for certain airplanes, to the life vest panels. AD 2019-03-06 was prompted by a report indicating that the PSUs became separated from their attachments during several survivable accident sequences. The FAA issued AD 2019-03-06 to address the potential for a PSU to detach and fall into the cabin, which could lead to passenger injuries and impede egress during an evacuation.

Actions Since AD 2019-03-06 Was Issued

Since AD 2019-03-06 was issued, the FAA made a determination, based on additional information provided by Boeing, that lanyard assemblies must also be installed to the life vest panels on additional airplanes. That action was not specified for these additional airplanes in previous service information or required by AD 2019-03-06.

Related Service Information Under 1 CFR Part 51

The FAA reviewed Boeing Special Attention Service Bulletin 737-25-1728, Revision 1, dated November 26, 2019. The service information describes procedures for installing lanyard assemblies to the PSUs and life vest panels, as applicable to the airplane group.

This proposed AD would also require Boeing Requirements Bulletin 737-25-1758 RB, dated November 8, 2017, which the Director of the Federal Register approved for incorporation by reference as of March 29, 2019 (84 FR 5587, February 22, 2019).

This service information is reasonably available because the interested parties have access to it through their normal course of business or by the means identified in the ADDRESSES section.

FAA's Determination

The FAA is proposing this AD because the agency evaluated all the relevant information and determined the unsafe condition described previously is likely to exist or develop in other products of the same type design.

Proposed AD Requirements

This proposed AD would retain all requirements of AD 2019-03-06. This proposed AD would also require installation of lanyard assemblies to the life vest panels on certain airplanes. Therefore, this proposed AD would require accomplishment of the actions identified as “RC” (required for compliance) in the Accomplishment Instructions of Boeing Special Attention Service Bulletin 737-25-1728, Revision 1, dated November 26, 2019, and the actions identified in the Boeing Requirements Bulletin 737-25-1758 RB, dated November 8, 2017, described previously, except for any differences identified as exceptions in the regulatory text of this proposed AD.

For information on the procedures and compliance times, see this service information at https://www.regulations.gov by searching for and locating Docket No. FAA-2020-0107.

Costs of Compliance

The FAA estimates that this proposed AD affects 221 airplanes of U.S. registry. The new actions in this proposed AD apply to only 5 airplanes, none of which is registered in the U.S. The FAA estimates the following costs to comply with this proposed AD:

Estimated Costs for Required Actions
Action | Labor cost | Parts cost | Cost per product | Cost on U.S. operators
Lanyard assembly installation | Up to 124 work-hours × $85 per hour = Up to $10,540 | Up to $11,000 | $21,540 | Up to $4,760,340.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2019-03-06, Amendment 39-19558 (84 FR 5587, February 22, 2019), and adding the following new AD:

The Boeing Company: Docket No. FAA-2020-0107; Product Identifier 2019-NM-205-AD.

(a) Comments Due Date

The FAA must receive comments on this AD action by April 23, 2020.

(b) Affected ADs

This AD replaces AD 2019-03-06, Amendment 39-19558 (84 FR 5587, February 22, 2019) (“AD 2019-03-06”).

(c) Applicability

This AD applies to The Boeing Company Model 737-300, -400, and -500 series airplanes, certificated in any category, as identified in the service information specified in paragraphs (c)(1) and (2) of this AD.

(1) Boeing Special Attention Service Bulletin 737-25-1728, Revision 1, dated November 26, 2019.

(2) Boeing Requirements Bulletin 737-25-1758 RB, dated November 8, 2017.

(d) Subject

Air Transport Association (ATA) of America Code 25, Equipment/furnishings.

(e) Unsafe Condition

This AD was prompted by a report indicating that the passenger service units (PSUs) became separated from their attachments during several survivable accident sequences. The FAA is issuing this AD to address the potential for the PSU to detach and fall into the cabin, which could lead to passenger injuries and impede egress during an evacuation.

(f) Compliance

Comply with this AD within the compliance times specified, unless already done.

(g) Required Actions

(1) For airplanes identified in Boeing Special Attention Service Bulletin 737-25-1728, Revision 1, dated November 26, 2019: At the applicable times specified in paragraph 1.E., “Compliance,” of Boeing Special Attention Service Bulletin 737-25-1728, Revision 1, dated November 26, 2019, do all applicable actions identified as “RC” (required for compliance) in, and in accordance with, the Accomplishment Instructions of Boeing Special Attention Service Bulletin 737-25-1728, Revision 1, dated November 26, 2019.

(2) For airplanes identified in Boeing Requirements Bulletin 737-25-1758 RB, dated November 8, 2017: Except as required by paragraph (h) of this AD, at the applicable times specified in the “Compliance” paragraph of Boeing Requirements Bulletin 737-25-1758 RB, dated November 8, 2017, do all applicable actions identified in, and in accordance with, the Accomplishment Instructions of Boeing Requirements Bulletin 737-25-1758 RB, dated November 8, 2017.

Note 1 to paragraph (g)(2): Guidance for accomplishing the actions required by paragraph (g)(2) of this AD can be found in Boeing Service Bulletin 737-25-1758, dated November 8, 2017, which is referred to in Boeing Requirements Bulletin 737-25-1758 RB, dated November 8, 2017.

(h) Exception to Service Information Specifications

Where Boeing Requirements Bulletin 737-25-1758 RB, dated November 8, 2017, uses the phrase “the original issue date of the Requirements Bulletin (RB),” this AD requires using March 29, 2019 (the effective date of AD 2019-03-06).

(i) Credit for Previous Actions

This paragraph provides credit for the actions specified in paragraph (g)(1) of this AD, if those actions were performed before the effective date of this AD using Boeing Service Bulletin 737-25-1728, dated October 10, 2016.

(j) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) For service information that contains steps that are labeled as Required for Compliance (RC), the provisions of paragraphs (j)(4)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact Scott Craig, Aerospace Engineer, Cabin Safety and Environmental Systems Section, FAA, Seattle ACO Branch, 2200 South 216th St., Des Moines, WA 98198; phone and fax: 206-231-3566; email: Michael.S.Craig@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Transport Standards Branch, 2200 South 216th St., Des Moines, WA. For information on the availability of this material at the FAA, call 206-231-3195.

Issued on March 1, 2020.
Lance T. Gant,
Director, Compliance & Airworthiness Division, Aircraft Certification Service.

[FR Doc. 2020-04660 Filed 3-6-20; 8:45 am]

BILLING CODE 4910-13-P